NATIONAL AERONAUTICS AND SPACE ADMINISTRATION

[Notice (16-082)]

Applied Sciences Advisory Committee; Meeting

AGENCY: National Aeronautics and Space Administration.

ACTION: Notice of meeting.

SUMMARY: In accordance with the Federal Advisory Committee Act, Public Law 92-463, as amended, the National Aeronautics and Space Administration (NASA) announces a meeting of the Applied Sciences Advisory Committee (ASAC). This Committee functions in an advisory capacity to the Director, Earth Science Division, in the NASA Science Mission Directorate. The meeting will be held for the purpose of soliciting, from the applied sciences community and other persons, scientific and technical information relevant to program planning.

DATES: Wednesday, December 7, 2016, 9:00 a.m. to 5:00 p.m., and Thursday, December 8, 2016, 9:00 a.m. to 5:00 p.m., Local Time.

ADDRESSES: NASA Headquarters, Room 7Q46, 300 E Street SW., Washington, DC 20546.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be open to the public up to the capacity of the room. This meeting will also be available telephonically and via WebEx. You must use a touch-tone phone to participate in this meeting. Any interested person may dial the USA toll free conference call number 1-888-324-7118, passcode 7154341, followed by the # sign, to participate in this meeting by telephone, for both days. The WebEx link is https://nasa.webex.com; the meeting number on December 7 is 997 590 459 and the password is @December7 (case sensitive); the meeting number on December 8 is 992 751 297 and the password is @December8 (case sensitive).

The agenda for the meeting includes the following topics:

• Earth Science and Applied Sciences Program Activities

• Continuity Study

• Earth Science Decadal Survey

• Flight Projects and Applications

Attendees will be requested to sign a register and to comply with NASA Headquarters security requirements, including the presentation of a valid picture ID to Security before access to NASA Headquarters. Due to the Real ID Act, Public Law 109-13, any attendees with drivers licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: Kentucky, Maine, Minnesota, Missouri, Oklahoma, Pennsylvania, South Carolina, and Washington. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees with U.S. citizens and Permanent Residents (green card holders) can provide full name and citizenship status 3 working days in advance by contacting KarShelia Henderson via email at khenderson@nasa.gov or by fax at (202) 358-2779.

It is imperative that the meeting be held on these dates to accommodate the scheduling priorities of the key participants.

Patricia D. Rausch,
Advisory Committee Management Officer, National Aeronautics and Space Administration.

[FR Doc. 2016-27817 Filed 11-17-16; 8:45 am]

BILLING CODE 7510-13-P